DEPARTMENT OF THE INTERIOR

National Indian Gaming Commission

Agency Information Collection Activities; New Collection: Information Management Standard Assessment Questionnaires

AGENCY: National Indian Gaming Commission, Interior.

ACTION: Notice of new information collection; request for comment.

SUMMARY: In accordance with the Paperwork Reduction Act of 1995 (PRA), the National Indian Gaming Commission (NIGC or Commission) is providing notice to, and seeking comments from, the general public and other Federal agencies about a new information collection, to be administered by its CJIS (Criminal Justice Information Services) Audit Unit (CAU).

DATES: Submit comments on or before February 5, 2024.

ADDRESSES: Comments should be directed to the attention of: Tim Osumi, National Indian Gaming Commission and may be mailed to 1849 C Street NW, MS 1621, Washington, DC 20240; faxed to (202) 632-7066; or, electronically transmitted to info@nigc.gov, subject: PRA new collection.

FOR FURTHER INFORMATION CONTACT: Tim Osumi via email at tim.osumi@nigc.gov; telephone at (202) 264-0676; fax at (202) 632-7066 (not toll-free numbers).

SUPPLEMENTARY INFORMATION:

I. Background

The Indian Gaming Regulatory Act (IGRA), Public Law 100-497, 25 U.S.C. 2701, et seq., was signed into law on October 17, 1988. The IGRA established the National Indian Gaming Commission (NIGC) and outlined a comprehensive framework for the regulation of gaming on Indian lands. Among the IGRA's requirements is that persons who apply for a “key employee” (KE) or “primary management official” (PMO) position at a tribal gaming operation must undergo a background investigation ((§ 2710(b)(2)(F)(i)). Similarly, the IGRA requires that persons who have direct or indirect financial interest in, or management responsibility for, a tribal gaming management contract, must undergo a background investigation and be evaluated for suitability as part of the NIGC's management contract review process ((§ 2711(a), (e)(1)(D)). In keeping with these background investigative statutory requirements, NIGC regulations 25 CFR 522.2(g), 25 CFR 556.4(a)(14), and 25 CFR 537.1(b)(2) stipulate that prospective KEs/PMOs and management contractors must submit their fingerprints to the Federal Bureau of Investigations (FBI) and undergo a criminal history record information (CHRI) check.

Although CHRI checks are integral to the tribal KE/PMO applicant licensing process, tribes do not possess the necessary statutory authority to directly access FBI CHRI for this purpose. The NIGC, as a Federal agency empowered under the IGRA to access CHRI (§§ 2706(b)(3) & (7), 2708), accepts tribal fingerprint submissions and transmits them to the FBI for this purpose. In return, the FBI provides CHRI check results to the NIGC and the NIGC shares these results with the requesting tribe. In this process, the NIGC assumes the role of a CJIS Systems Agency (CSA), a duly authorized agency on the CJIS network that provides service to criminal justice users with respect to the criminal justice information (CJI) from the various systems managed by the Federal Bureau of Investigations (FBI) CJIS Division.

The roles and responsibilities under which the NIGC, FBI, and tribes process CHRI checks are memorialized in Memoranda of Understanding between the FBI and the NIGC and between the NIGC and each requesting tribe. One such responsibility is to monitor the dissemination of CHRI to ensure FBI-compliant privacy and security standards are followed. This responsibility is detailed in FBI CJIS Security Policy, Policy Area 11 (CJISSECPOL 5.11.2) which specifies that the NIGC, as a CSA, is required to establish a process to periodically audit tribes that receive CHRI to ensure compliance with applicable statutes, regulations and policies. To fulfill this obligation, the NIGC has established a CJIS Audit Unit (CAU), which is tasked with coordinating with tribal authorities to ensure that NIGC-disseminated CHRI is handled and managed in accordance with applicable statutes, regulations, and policies.

In performing its oversight duties, the CAU will deploy questionnaires to gather information. This information will be used to assess and document tribal compliance with privacy and security standards and will enable the CAU to identify information management risk factors that may require remediation. This information collection is a vital tool for the NIGC CAU to be able to perform its function and the performance of this function helps to ensure that the NIGC can continue to support the successful operation of tribal gaming under IGRA.

II. Request for Comments

The Commission welcomes any comments on these collections concerning: (i) whether the collections of information are necessary for the proper performance of the functions of the agency, including whether the information will have practical utility; (ii) the accuracy of the agency's estimates of the burdens (including the hours and dollar costs) of the proposed collections of information, including the validity of the methodologies and assumptions used; (iii) ways to enhance the quality, utility, and clarity of the information to be collected; (iv) ways to minimize the burdens of the information collections on those who are to respond, including through the use of appropriate automated, electronic, mechanical, or other collection techniques or forms of information technology.

Please note that an agency may not conduct or sponsor, and an individual need not respond to, a collection of information unless it has a valid OMB Control Number.

It is the Commission's policy to make all comments available to the public for review at the location listed in the ADDRESSES section. Before including your address, phone number, email address, or other personally identifiable information (PII) in your comment, you should be aware that your entire comment—including your PII—may be made publicly available at any time. While you may ask in your comment that the Commission withhold your PII from public review, the Commission cannot guarantee that it will be able to do so.

II. Data

Title: Information Management Standard Assessment Questionnaires.

OMB Control Number: 3141-xxxx.

Brief Description of Collection: The collection involves questions that seek information about tribal security and privacy protections governing the processing, handling, and storing of NIGC-disseminated CHRI. The questions closely track the FBI's standard CJIS compliance questionnaires but have been streamlined and adapted to tribal specific standards. The information collected is generally policies, procedures, system configurations as well as some type and amount of measurable evidence that confirms their proper implementation.

Respondents: Indian tribal gaming operations.

Estimated Number of Annual Respondents: 140.

Estimated Number of Annual Responses: 140.

Estimated Time per Response: 37.5 minutes.

Frequency of Responses: Annually.

Estimated Total Annual Burden Hours on Respondents: 87.5.

Estimated Total Non-hour Cost Burden: $0.

Dated: November 29, 2023.
Edward Simermeyer,
Chairman.

[FR Doc. 2023-26775 Filed 12-5-23; 8:45 am]

BILLING CODE 7565-01-P